DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. in accordance with 35 U.S.C. 209 and 37 CFR part 404 to achieve expeditious commercialization of federally-funded research and development. Foreign patent applications are filed on selected inventions to extend market coverage for companies and may also be available for licensing.

FOR FURTHER INFORMATION CONTACT: Licensing information and copies of the U.S. patent applications listed below may be obtained by writing to the indicated licensing contact at the National Heart, Lung and Blood Institute, Office of Technology Transfer and Development, National Institutes of Health, 31 Center Drive, Room 4A29, MSC2479, Bethesda, MD 20892-2479; telephone: 301-402-5579. A signed Confidential Disclosure Agreement may be required to receive copies of the patent applications.

SUPPLEMENTARY INFORMATION: Technology descriptions follow.

Immortalized Organ of Corti Cell Line OC-k3 Description of Technology

Available for nonexclusive licensing as a research material is a conditionally immortalized Organ of Corti cell line called OC-k3. Sensory cells from the auditory organ, the Organ of Corti, are terminally differentiated and cannot be cultured. Moreover, few of them can be isolated per cochlea and survive only few hours after isolation making impossible to use on them many biochemical and molecular biology techniques. OC-k3, expresses many markers of sensory cells and it has already been used as an in vitro model for a variety of studies.

Potential Commercial Applications

• Research

• Hearing research

• Susceptibility to ototoxic drugs

Development Stage

• Materials

Inventors: Gilda Mabel Canseco de Kalinec and Federico Kalinec (both of NIDCD).

Publications

1. Bertolaso L, et al. (2001) “Apoptosis in the OC-k3 immortalized cell line treated with different agents.” Audiology 40:327-335. PMID: 1178104637-5745.

2. Previati M, et al. (2007) “Cisplatin cytotoxicity in Organ of Corti-derived immortalized cells.” J Celt Biochem.101(5):1185-97, PMID: 7243113.

Intellectual Property: HHS Reference No. E-012-2017/0—Research Material.

Licensing Contact: Michael Shmilovich, Esq, CLP; 301-435-5019; shmilovm@mail.nih.gov.

Dated: November 7, 2016.
Michael Shmilovich,
National Heart, Lung and Blood Institute, Office of Technology Transfer and Development, National Institutes of Health.

[FR Doc. 2016-27222 Filed 11-10-16; 8:45 am]

BILLING CODE 4140-01-P